DEPARTMENT OF HOMELAND SECURITY

Coast Guard

[Docket No. USCG-2014-0997]

Imposition of Conditions of Entry for Certain Vessels Arriving to the United States From Libya

AGENCY: Coast Guard, DHS.

ACTION: Notice.

SUMMARY: The Coast Guard announces that it will impose conditions of entry on vessels arriving from all ports in Libya. Conditions of entry are intended to protect the United States from vessels arriving from countries that have been found to have deficient port anti-terrorism measures in place.

DATES: The policy announced in this notice will become effective April 24, 2015.

FOR FURTHER INFORMATION CONTACT: For information about this document call or email Michael Brown, International Port Security Evaluation Division, United States Coast Guard, telephone 202-372-1081. For information about viewing or submitting material to the docket, call Cheryl Collins, Program Manager, Docket Operations, telephone 202-366-9826, toll free 1-800-647-5527.

SUPPLEMENTARY INFORMATION:

Discussion

The authority for this notice is 5 U.S.C. 552(a), 46 U.S.C. 70110, and DHS Delegation No. 0170.1(II)(97)(f). As delegated, section 70110 authorizes the Coast Guard to impose conditions of entry on vessels arriving in U.S. waters from ports that the Coast Guard has not found to maintain effective anti-terrorism measures.

The Coast Guard does not find ports in Libya maintaining effective anti-terrorism measures and finds that Libya's legal regime, designated authority oversight, access control and cargo control are all deficient. Our determination applies to all ports in Libya.

Accordingly, beginning April 24, 2015, the conditions of entry shown in the following Table will apply to any vessel that visited any Libyan port in its last five port calls.

Table—Conditions of entry—Vessel Visiting Libyan Port Ein Last Five Port Calls
No. | Each vessel must:
1 | Implement measures per the vessel's security plan equivalent to Security Level 2 while in a port in Libya. As defined in the International Maritime Organization's International Ship and Port Facility Security (ISPS) Code and incorporated herein, “Security Level 2” refers to the “level for which appropriate additional protective security measures shall be maintained for a period of time as a result of heightened risk of a security incident.”
2 | Ensure that each access point to the vessel is guarded and that the guards have total visibility of the exterior (both landside and waterside) of the vessel while the vessel is in ports in Libya.
3 | Guards may be provided by the vessel's crew; however, additional crewmembers should be placed on the vessel if necessary to ensure that limits on maximum hours of work are not exceeded and/or minimum hours of rest are met, or provided by outside security forces approved by the vessel's master and Company Security Officer. As defined in the ISPS Code and incorporated herein, “Company Security Officer” refers to the “person designated by the Company for ensuring that a ship security assessment is carried out; that a ship security plan is developed, submitted for approval, and thereafter implemented and maintained and for liaison with port facility security officers and the ship security officer.”
4 | Attempt to execute a Declaration of Security while in a port in Libya.
5 | Log all security actions in the vessel's security records.
6 | Report actions taken to the cognizant Coast Guard Captain of the Port (COTP) prior to arrival into U.S. waters.
7 | In addition, based on the findings of the Coast Guard boarding or examination, the vessel may be required to ensure that each access point to the vessel is guarded by armed, private security guards and that they have total visibility of the exterior (both landside and waterside) of the vessel while in U.S. ports. The number and position of the guards has to be acceptable to the cognizant COTP prior to the vessel's arrival.

The following countries currently do not maintain effective anti-terrorism measures and are therefore subject to conditions of entry: Cambodia, Cameroon, Comoros, Cote d'Ivoire, Cuba, Equatorial Guinea, Guinea-Bissau, Iran, Liberia, Libya, Madagascar, Nigeria, Sao Tome and Principe, Syria, Timor-Leste, Venezuela, and Yemen. This list is also available in a policy notice available at https://homeport.uscg.mil under the Maritime Security tab; International Port Security Program (ISPS Code); Port Security Advisory link.

Dated: February 10, 2015.
Vice Admiral Charles D. Michel, USCG,
Deputy Commandant for Operations.

[FR Doc. 2015-08348 Filed 4-9-15; 8:45 am]

BILLING CODE 9110-04-P